DEPARTMENT OF ENERGY

Energy Information Administration

Agency Information Collection Extension

AGENCY: U.S. Energy Information Administration (EIA), Department of Energy.

ACTION: Notice and Request for Office of Management and Budget (OMB) Review and Comment.

SUMMARY: The EIA has submitted an information collection request to the OMB under the provisions of the Paperwork Reduction Act of 1995 for a proposed reinstatement and three-year approval to the Form GC-859, “Nuclear Fuel Data Survey” (formerly Form RW-859) OMB Control Number 1901-0287. Form RW-859 was previously used to collect data for reference year 2002 and was discontinued in 2009. The form designation has been changed to reflect the transfer of functions from the DOE Office of Civilian Radioactive Waste Management (RW) to the DOE Office of the General Counsel (GC). The form is being reinstated to collect data as of June 30, 2013.

In addition to reinstating the Nuclear Fuel Data Survey form as Form GC-859 survey, EIA is also proposing to modify the structure and content of the form from Form RW-859. Most of the data reported on Form GC-859 was previously collected by its predecessor form and will be provided to respondents so that they may update their historical data. Some data requirements from previous surveys have been eliminated and replaced by new data required by various stakeholders and data users.

DATES: Comments regarding this proposed information collection must be received on or before April 5, 2013. If you anticipate that you will be submitting comments, but find it difficult to do so within the period of time allowed by this notice, please advise the DOE Desk Officer at OMB of your intention to make a submission as soon as possible. The Desk Officer may be telephoned at 202-395-4650.

ADDRESSES: Written comments should be sent to the

DOE Desk Officer, Office of Information and Regulatory Affairs, Office of Management and Budget, New Executive Office Building, Room 10102, 735 17th Street NW., Washington, DC 20503.

And to

Department of Energy, U.S. Energy Information Administration, Attn: Marta Gospodarczyk, EI-34, Forrestal Building, 1000 Independence Ave. SW., Washington, DC 20585, 202-586-0527, Fax at 202-586-3045, Email at marta.gospodarczyk@eia.gov.

FOR FURTHER INFORMATION CONTACT: Requests for additional information or copies of the information collection forms and instructions should be directed to Ms. Gospodarczyk at the contact information given above. Additionally, forms and instructions may be viewed at http://www.eia.gov/survey/#GC-859.

SUPPLEMENTARY INFORMATION: This information collection request contains:

(1) OMB No.: 1901-0287;

(2) Information Collection Request Title: Form GC-859, “Nuclear Fuel Data Survey”;

(3) Type of Request: Reinstatement and three-year approval of a previously approved data collection;

(4) Purpose: The Nuclear Fuel Data Survey collects data from 138 respondents (primarily commercial utilities that operate nuclear reactors). Data are collected on all discharged nuclear assemblies, projections of future assembly discharges, nuclear fuel storage capacities and inventories at reactor sites and storage facilities, complete reactor operating history, data on special fuel forms including nonstandard and failed fuel, nonfuel components, and Greater Than Class C low-level waste data.

(5) Number of Respondents: 138;

(6) Annual Estimated Number of Total Responses: 46 (data collected once during three-year approval period);

(7) Annual Estimated Number of Burden Hours: 3106.7;

(8) Annual Estimated Reporting and Recordkeeping Cost Burden: EIA estimates that there are no additional costs to respondents associated with the surveys other than the costs associated with the burden hours.

Statutory Authority: Section 13(b) of the Federal Energy Administration Act of 1974, Pub. L. 93-275, codified at 15 U.S.C. 772(b); Section 302 of the Nuclear Waste Policy Act of 1982, codified at 42 U.S.C. 10222.

Issued in Washington, DC, on February 28, 2013.
Renee Miller,
Acting Director, Office of Survey Development and Statistical Integration, U.S. Energy Information Administration.

[FR Doc. 2013-05157 Filed 3-5-13; 8:45 am]

BILLING CODE 6450-01-P